DEPARTMENT OF COMMERCE

National Institute of Standards and Technology

[Docket No 130426414-3603-02]

Request for Information on Pilots To Inform the Creation of Potential New Manufacturing Technology Acceleration Centers (M-TACs); Extension of Comment Period

AGENCY: National Institute of Standards and Technology (NIST), United States Department of Commerce.

ACTION: Notice; extension of comment deadline.

SUMMARY: NIST is extending the deadline for submitting comments regarding NIST's planning for a Federal Funding Opportunity (FFO) for new manufacturing technology acceleration centers (M-TACs). NIST anticipates issuing the FFO in fiscal year 2014 (FY14), subject to the availability of appropriated funding. The new comment deadline is Monday, August 5, 2013. NIST will accept comments submitted only via email during the extended time period.

DATES: Comments must be received no later than 11:59 p.m. Eastern Time on Monday, August 5, 2013.

ADDRESSES: Electronic comments may be sent to diane.henderson@nist.gov with the subject line “M-TAC RFI Comments.”

FOR FURTHER INFORMATION CONTACT: Diane Henderson, 100 Bureau Drive, Mail Stop 4800, Gaithersburg, MD 20899-4800, 301-975-5105, diane.henderson@nist.gov; or David Stieren, 100 Bureau Drive, Mail Stop 4800, Gaithersburg, MD 20899-4800, 301-975-3197, david.stieren@nist.gov. Please direct media inquiries to NIST's Office of Public Affairs at (301)-975-NIST.

SUPPLEMENTARY INFORMATION: On June 21, 2013, NIST solicited public comments on NIST's planning for a FFO in FY 2014 to competitively fund a select number of new M-TACs (78 FR 37422). NIST anticipates issuing the FFO in FY14, subject to the availability of appropriated funds. NIST originally set a comment due date of July 22, 2013. However, in order to provide all interested parties the opportunity to submit comments, NIST is extending the solicitation period until Monday, August 5, 2013. Proposals received between July 22, 2013 and the publication date of this notice of extension shall be deemed timely and will be given full consideration. Persons who submitted comments between July 22, 2013 and the date of publication of this notice need not resubmit their comments. During the extended solicitation period, NIST will accept only comments submitted via email.

Dated: July 11, 2013.
Phillip Singerman,
Associate Director for Innovation & Industry Services.

[FR Doc. 2013-17685 Filed 7-22-13; 8:45 am]

BILLING CODE 3510-13-P